MARINE MAMMAL COMMISSION

Sunshine Act Meetings

TIME AND DATE: The Marine Mammal Commission and its Committee of Scientific Advisors on Marine Mammals will hold a public meeting on Tuesday, 9 September 2025 from 1:00 p.m. to 4:30 p.m., Wednesday, 10 September 2025 from 9:00 a.m. to 4:45 p.m., and Thursday, 11 September 2025 from 9:00 a.m. to 12:30 p.m.

PLACE: The Samuel H. Scripps Auditorium, Scripps Seaside Forum, 8610 Kennel Way, La Jolla, CA 92037.

STATUS: The meeting will be open to the public in accordance with the provisions of the Government in the Sunshine Act (5 U.S.C. 552b), the Federal Advisory Committee Act and applicable regulations. Public participation will be allowed as time permits and as determined to be desirable by the Chair. Virtual participation will be possible through a Zoom Webinar. The meeting agenda and webinar registration details will be posted on the Commission's website (https://www.mmc.gov/annual-meeting-2025) prior to the meeting.

MATTERS TO BE CONSIDERED: The Commission and Committee will meet to review and discuss emerging technologies and innovations for improving marine mammal stock assessments prepared under the Marine Mammal Protection Act, including improvements to population and health assessments. In addition, the Commission and Committee will consider issues related to the conservation on marine mammals and their habitats within the California Current ecosystem.

CONTACT PERSON FOR MORE INFORMATION: Brady O'Donnell, Communications and Legislative Affairs Officer, Marine Mammal Commission, 4340 East-West Highway, Room 700, Bethesda, MD 20814; (301) 504-0087; email: bodonnell@mmc.gov.

Dated: August 20, 2025.
Michael L. Gosliner,
General Counsel.

[FR Doc. 2025-16188 Filed 8-21-25; 11:15 am]

BILLING CODE 6820-31-P